DEPARTMENT OF AGRICULTURE

Rural Business-Cooperative Service

Rural Housing Service

Rural Utilities Service

Notice of Solicitation of Applications (NOSA) for the Strategic Economic and Community Development Program for Fiscal Year (FY) 2020

AGENCY: Rural Business-Cooperative Service, Rural Housing Service, and Rural Utilities Service, USDA.

ACTION: Notice.

SUMMARY: Section 6401 of the Agricultural Act of 2018 (2018 Farm Bill) enables the Secretary of Agriculture to provide priority to projects that support Strategic Economic and Community Investment plans. The 2018 Farm Bill re-authorized the Strategic Economic and Community Development (SECD) priority, Section 6025 of the Agricultural Act of 2014 (2014 Farm Bill) with some modifications. Until the rulemaking process is finalized to incorporate the new changes, SECD will continue to operate using the existing regulation. In FY 2020, the Agency implements SECD through reserving funds from the “underlying programs”. This Notice applies to applicants who will be submitting applications for the “underlying programs”. This notice establishes the above mentioned priority effective upon the publication of this notice.

DATES: To apply for SECD priority points in FY 2020, applicants must submit Form RD 1980-88, “Strategic Economic and Community Development (section 6025) Priority,” by 5:00 p.m. Eastern Time on June 30, 2020.

All applicants are responsible for any additional expenses incurred in preparing and submitting applications.

ADDRESSES: Submit applications to the USDA Rural Development Area Office servicing the area where the project is located. A list of the USDA Rural Development Area Offices can be found listed by state at: http://www.rd.usda.gov/contact-us/state-offices.

FOR FURTHER INFORMATION CONTACT: For more information, please contact your respective Rural Development State Office listed here: http://www.rd.usda.gov/browse-state A checklist of all required application information for regional planning priority can be found at: https://www.rd.usda.gov/programs-services/strategic-economic-and-community-development.

For all other inquiries, contact Innovation Center Partnership Division Regional Coordinators as follows:

• Midwest Region—Christine Sorensen: 202-568-9832, Christine.Sorensen@usda.gov.

• Northeast Region—Angela Callie: 202 568 9738, Angela.Callie@usda.gov.

• Southern Region—Greg Dale: (870) 633-3055 Ext. 123, Gregory.Dale@usda.gov.

• Western Region—Tim O'Connell: (503) 414-3396, Tim.Oconnell@usda.gov.

• National Office— Greg Batson, Rural Development Innovation Center, U.S. Department of Agriculture, Stop 0793, 1400 Independence Avenue SW, Washington, DC 20250-0783, Telephone: 573-239-2945. Email: gregory.batson@usda.gov.

SUPPLEMENTARY INFORMATION: This action has been reviewed and determined not to be a rule or regulation as defined in Executive Order 12866, as amended by Executive Order 13258.

I. Background

Section 6401 of the 2018 Farm Bill re-authorized Section 6025 of the Agricultural Act of 2014 (2014 Farm Bill) with some modifications. The provision provides priority to projects that support strategic economic development or community investment plans when applying for program funds under the rural development mission area. Until the rulemaking process is finalized to incorporate the new changes, SECD will continue to operate using the existing regulation. In FY 2020, the Agency will reserve funds from the “underlying programs”, using SECD regulation 7 CFR 1980, Subpart K. This Notice provides applicants with eligible projects the opportunity to apply for reserve funding in FY 2020.

A. Statutory Authority

This priority is authorized under Section 6401 of the 2018 Farm Bill.

B. Programs

Section 6401 of the 2018 Farm Bill authorizes any program under the Consolidated Farm and Rural Development Act (7 U.S.C. 2008v), as determined by the Secretary, to give priority to an application that supports the implementation of strategic community investment plans. In FY 2020, the Agency implements SECD through reserving funds from the “underlying programs”, using SECD regulation 7 CFR 1980, Subpart K.

Accordingly, the Agency is giving regional planning priority through the following Rural Development programs:

• Community Facility Loans; see 7 CFR 1942, Subpart A

• Fire and Rescue and Other Small Community Facilities Projects; see 7 CFR 1942, Subpart C

• Community Facilities Grants; see 7 CFR 3570, Subpart B

• Community Programs Guaranteed Loans; see 7 CFR 3575

• Water and Waste Disposal Programs Guaranteed Loans; see 7 CFR 1779

• Water and Waste Loans and Grants; see 7 CFR 1780

• Business and Industry Guaranteed Loans; see 7 CFR 4279

• Rural Business Development Grants; see 7 CFR 4280, Subpart E

II. Award Information

Type of Awards: Guaranteed loans, direct loans and grants.

Fiscal Year Funds: FY 2020 appropriated funds.

Available Funds: The amount of funds available will depend on the amount of funds the underlying programs have available during the fiscal year.

Regional Planning Priority

For FY 2020 applications, the following table specifies the percentage of funds being reserved:

Program | Percentage of funds reserved for SECD
Community Facility Loans | 10
Fire and Rescue and Other Small Community Facilities Projects | 10
Community Facilities Grant Program | 10
Community Programs Guaranteed Loans | 10
Water and Waste Disposal Programs Guaranteed Loans | 10
Water and Waste Loans | 5
Water and Waste Grants | 3
Business and Industry Guaranteed Loan | 5
Rural Business Development Grants | 5

Award Amounts: Guaranteed loans, direct loans and grants will be awarded in amounts consistent with each applicable underlying program.

Award Dates: Awards for applications submitted in FY 2020 will be made on or before June 30, 2020. The agency will return any reserved funds that are not obligated by June 30, 2020 to the underlying program's regular funding account, for obligation to all eligible projects in that program.

III. Eligibility Information

A. Eligible Requirements

To be considered for SECD priority points, both the applicant and project must meet the eligibility requirements of the underlying program. These requirements vary among the underlying programs and applicants should refer to the regulations for those programs, which are referenced in I. A. of this Notice.

The agency continues to make available additional priority for regional planning through the existing regulation without making any changes to the applicant eligibility requirements of the underlying programs. The regulation includes three criteria that a project must meet in order to be considered for priority points (see 7 CFR 1980.1010):

The first criterion, as noted above, is that the project meets the applicable eligibility requirements of the underlying program for which the applicant is applying.

The second criterion is that the project is “carried out in a rural area” as defined in 7 CFR 1980.1005. As defined, this means either the entire project is physically located in a rural area or all of the beneficiaries of the service(s) provided through the project must either reside in or be located in a rural area. Note that the definition of “rural” varies among the underlying programs and the Section 6025 regulation does not change those definitions, therefore, the applicable program regulations as outlined in I.A. should be reviewed as necessary.

The third criterion is that the project supports the implementation of a strategic economic development or community investment plan on a multi-jurisdictional basis as defined in 7 CFR 1980.1005.

In order to be considered for the reserved funds from underlying programs in FY 2020, applicants (1) meet all requirements of the underlying program; (2) meet all requirements in accordance with 7 CFR Subpart K (see 7 CFR 1980.1010); and (3) submit Form RD 1980-88 and supporting documentation. Form RD 1980-88 requests such information as (see 7 CFR 1980.1015):

• Identification of whether the applicant includes a State, county, municipal, or tribal government;

• Identification by name of the plan being supported by the project, the date the plan became effective and is to remain in effect, and a detailed description of how the project directly supports one or more of the plan's objectives;

• Sufficient information to show that the project will be carried out solely in a rural area; and

• Identification of any current or previous applications the applicant has submitted for funds from the underlying programs.

B. Cost Sharing or Matching

Any and all cost sharing, matching, and cost participation requirements of the applicable underlying program apply to projects seeking SECD priority points. The Section 6025 regulation does not change such requirements.

C. Other Eligibility Requirements

Any and all other eligibility requirements (beyond those identified in III.A of this Notice) found in the underlying programs apply to applicants, their projects, and the beneficiaries of those projects are unchanged by either this Notice or the Section 6025 regulation.

IV. Application Evaluation and Selection for Underlying Programs Funds

All FY 2020 applications for underlying programs will be reviewed, evaluated, and scored based on the underlying program's scoring criteria. This Notice does not affect that process. This Notice only affects the scoring of SECD applications competing for an underlying program's funds.

A. Scoring of Applications

All eligible and complete applications competing for an underlying program's funds will be evaluated and scored based on the criteria of the applicable underlying program, whether or not the applicant seeks regional planning priority points.

For applicants wishing to be considered for the reserved funds in FY 2020, the Agency will review, evaluate, and score each Form RD 1980-88, based on the criteria specified in 7 CFR 1980.1020, to award the SECD priority points.

B. Selection Process

The Agency will select the highest scoring applications competing for an underlying program's funds based on the award process for the underlying program to determine which projects receive funds except that:

• An application's total score will be determined in accordance with section IV.A. of this Notice and

• To the extent provided by the underlying programs in this Notice, the Agency will encourage awarding “SECD priority” to qualifying applications.

VI. Award Administration Information

A. Award Notices

The Agency will notify SECD applicants who receive funding in a manner consistent with award notifications for the underlying program.

B. Administrative and National Policy Requirements

Any and all additional requirements of the applicable underlying programs apply to projects receiving funding in response to this Notice. Please see the regulations for the applicable underlying program.

C. Reporting Requirements

Any and all post-award reporting requirements contained in the underlying program apply to all projects receiving funding in response to this Notice.

Applicants who are selected for funding in FY 2020 in response to this Notice (i.e., those applicants who submit Form RD 1980-88 and receive funding from the underlying program's funds) are required to submit information in accordance with 7 CFR 1980.1026. This information is on the project's measures, metrics, and outcomes that the awardee would already be submitting to the appropriate entity(ies) monitoring the implementation of the plan.

VII. Additional Information

Paperwork Reduction Act

In accordance with the Paperwork Reduction Act of 1995, the information collection requirements contained in 7 CFR part 1980, subpart K, have been approved by OMB under OMB Control Number 0570-0068.

National Environmental Policy Act

This document has been reviewed in accordance with 7 CFR part 1970, subpart A, “Environmental Policies.” It is the determination of the Agency that this action does not constitute a major Federal action significantly affecting the quality of the human environment, and, in accordance with the National Environmental Policy Act of 1969, Public Law 91-190, neither an Environmental Assessment nor an Environmental Impact Statement is required.

Federal Funding Accountability and Transparency Act

All applicants, in accordance with 2 CFR part 25, must have a DUNS number, which can be obtained at no cost via a toll-free request line at 1-866-705-5711 or online at http://fedgov.dnb.com/webform. Similarly, all grant applicants must be registered in the System for Award Management (SAM) prior to submitting an application. Applicants may register for the SAM at http://www.sam.gov/SAM. All recipients of Federal financial grant assistance are required to report information about first-tier sub-awards and executive total compensation in accordance with 2 CFR part 170.

Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410; fax: (202) 690-7442; or email: program.intake@usda.gov.

Donald DJ LaVoy,
Deputy Under Secretary, Rural Development.

[FR Doc. 2020-04031 Filed 2-27-20; 8:45 am]

BILLING CODE 3410-XY-P